DEPARTMENT OF THE TREASURY

Submission for OMB Review; Comment Request

January 21, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 1, 2000 to be assured of consideration.

Internal Revenue Service (IRS)

OMB Number: New.

Form Number: IRS Form A.

Type of Review: New collection.

Title: Qualifications Availability Form.

Description: Form A is used by external applicants applying for clerical and technical positions with the Internal Revenue Service. Applicants will complete information relating to their address, job preference, veteran's preference and a series of occupational questions, knowledge and skills along with background information.

Respondents: Individuals or households.

Estimated Number of Respondents: 90,000.

Estimated Burden Hours Per Respondent: 30 minutes.

Frequency of Response: On occasion.

Estimated Total Reporting Burden: 45,000 hours.

OMB Number: 1545-0143.

Form Number: IRS Form 2290.

Type of Review: Extension.

Title: Heavy Highway Vehicle Use Tax Return.

Description: Form 2290 is used to compute and report the tax imposed by section 4481 on the highway use of certain motor vehicles. The information is used to determine whether the taxpayer has paid the correct amount of tax.

Respondents: Business or other for-profit.

Estimated Number of Respondents/Recordkeepers: 500,625.

Estimated Burden Hours Per Respondent/Recordkeeper:

Recordkeeping | 39 hr., 28 min.
Learning about the law or the form | 18 min.
Preparing, copying, and sending the form to the IRS | 57 min.

Frequency of Response: Annually.

Estimated Total Reporting/Recordkeeping Burden: 19,223,213 hours.

OMB Number: 1545-1221.

Regulation Project Number: EE-147-87 Final.

Type of Review: Extension.

Title: Qualified Separate Lines of Business.

Description: The affected public includes employers who maintain qualified employee retirement plans. Where applicable, the employer must furnish notice to the IRS that the employer treats itself as operating qualified separate lines of business and some may request an IRS determination that such lines satisfy administrative scrutiny.

Respondents: Business or other for-profit.

Estimated Number of Respondents/Recordkeepers: 253.

Estimated Burden Hours Per Respondent/Recordkeeper: 3 hrs., 27 min.

Frequency of Response: Annually.

Estimated Total Reporting/Recordkeeping Burden: 899 hours.

OMB Number: 1545-1530.

Form Number: None.

Type of Review: Extension.

Title: Tip Rate Determination Agreement (Gaming Industry).

Description: Information is required by the Internal Revenue Service in its Compliance efforts to assist employers and their employees in understanding and complying with section 6053(a), which requires employees to report all their tips monthly to their employers.

Respondents: Business or other for-profit.

Estimated Number of Respondents/Recordkeeping: 100.

Estimated Burden Hours Per Respondent/Recordkeeper: 4 hr., 40 min.

Frequency of Response: On occasion.

Estimated Total Reporting/Recordkeeping Burden: 4,367 hours.

Clearance Officer: Garrick Shear, Internal Revenue Service, Room 5244,1111 Constitution Avenue, NW, Washington, DC 20224

OMB Reviewer: Alexander T. Hunt, (202) 395-7860, Office of Management and Budget, Room 10202, New Executive Office Building, Washington, DC 20503

Lois K. Holland,
Departmental Reports, Management Officer.

[FR Doc. 00-2029 Filed 1-28-00; 8:45 am]

BILLING CODE 4830-01-P